DEPARTMENT OF HEALTH AND HUMAN SERVICES

Centers for Disease Control and Prevention

[30Day-10-0457]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Aggregate Reports for Tuberculosis Program Evaluation (OMB No. 0920-0457 exp. 5/30/2010) — Reinstatement with change —National Center for HIV/AIDS, Viral Hepatitis, STD, and TB Prevention (NCHHSTP), Centers for Disease Control and Prevention (CDC).

Background and Brief Description

CDC, NCHHSTP, Division of Tuberculosis Elimination (DTBE) proposes to reinstate with change the Aggregate Reports for Tuberculosis Program Evaluation, previously approved under OMB No. 0920-0457. This request is for a 3-year clearance. There are no revisions to the report forms, data definitions, or reporting instructions. Changes within this information collection request (ICR) reflect an increase in the annual cost to the government. The increased cost is due to increases in salaries of personnel conducting data collection and analysis since the last ICR approval.

DTBE is the lead agency for tuberculosis elimination in the United States. To ensure the elimination of tuberculosis in the United States, CDC monitors indicators for key program activities, such as finding tuberculosis infections in recent contacts of cases and in other persons likely to be infected and providing therapy for latent tuberculosis infection. In 2000, CDC implemented two program evaluation reports for annual submission: Aggregate report of follow-up for contacts of tuberculosis, and Aggregate report of screening and preventive therapy for tuberculosis infection (OMB No. 0920-0457). The respondents for these reports are the 68 State and local tuberculosis control programs receiving Federal cooperative agreement funding through DTBE. These reports emphasize treatment outcomes, high-priority target populations vulnerable to tuberculosis, and programmed electronic report entry, which will be transitioned to the National Tuberculosis Indicators Project (NTIP), a secure Web-based system for program evaluation data, in 2010. No other Federal agency collects this type of national tuberculosis data, and the Aggregate report of follow-up for contacts of tuberculosis, and Aggregate report of screening and preventive therapy for tuberculosis infection are the only data source about latent tuberculosis infection for monitoring national progress toward tuberculosis elimination with these activities. CDC provides ongoing assistance in the preparation and utilization of these reports at the local and State levels of public health jurisdiction. CDC also provides respondents with technical support for NTIP access (Electronic—100%, Use of Electronic Signatures—No). The annual burden to respondents is estimated to be 226 hours.

Estimated Annualized Burden Hours
Type of respondent | Form name | Number of respondents | Number of responses per respondent | Average burden per response (in hours)
Data clerks | Follow-up and Treatment of Contacts to Tuberculosis Cases | 50 18 | 1 (electronic) 1 (manual) | 30/60 3
Program Managers | Follow-up and Treatment of Contacts to Tuberculosis Cases | 50 18 | 1 (electronic) 1 (manual) | 30/60 30/60
Data clerks | Targeted Testing and Treatment for Latent Tuberculosis Infection | 50 18 | 1 (electronic) 1 (manual) | 30/60 3
Program Managers | Targeted Testing and Treatment for Latent Tuberculosis Infection | 50 18 | 1 (electronic) 1 (manual) | 30/60 30/60
Total |  |  |  | 226

Dated: July 20, 2010.
Maryam I. Daneshvar,
Reports Clearance Officer, Centers for Disease Control and Prevention.

[FR Doc. 2010-18290 Filed 7-26-10; 8:45 am]

BILLING CODE 4163-18-P